DEPARTMENT OF HEALTH AND HUMAN SERVICES

Food and Drug Administration

[Docket No. FDA-2010-D-0643]

Draft Guidance for Industry on Electronic Source Data in Clinical Investigations; Correction

AGENCY: Food and Drug Administration, HHS.

ACTION: Notice; correction.

SUMMARY: The Food and Drug Administration (FDA) is correcting a notice that appeared in the Federal Register of Tuesday, November 20, 2012 (77 FR 69632). The document announced the availability of a draft guidance entitled “Electronic Source Data in Clinical Investigations.” The document was published with an incorrect date in the DATES section. This document corrects that error.

FOR FURTHER INFORMATION CONTACT: Ron Fitzmartin, Office of Planning & Informatics, Center for Drug Evaluation and Research, Food and Drug Administration, 10903 New Hampshire Ave., Bldg. 51, Rm. 1160, Silver Spring, MD 20993-0002, 301-796-5333, FAX: 301-847-8443.

SUPPLEMENTARY INFORMATION: In FR Doc. 2012-28198, appearing on page 69632 in the Federal Register of Tuesday, November 20, 2012, the following correction is made:

1. On page 69632, in the third column, in the DATES section, the date “January 22, 2013” is corrected to read “March 26, 2013.”

Dated: December 20, 2012.
Leslie Kux,
Assistant Commissioner for Policy.

[FR Doc. 2012-31027 Filed 12-21-12; 4:15 pm]

BILLING CODE 4160-01-P